DEPARTMENT OF ENERGY

Federal Energy Regulatory Commission

[Project No. 13212-002]

Grant Lake Hydroelectric Project; Notice of Preliminary Permit Application Accepted for Filing and Soliciting Comments, Motions To Intervene, and Competing Applications

On October 3, 2011, Kenai Hydro, LLC, Alaska, filed an application for a successive preliminary permit, pursuant to section 4(f) of the Federal Power Act (FPA), proposing to study the feasibility of the Grant Lake Hydroelectric Project to be located on Grant Lake and Grant Creek, near the town of Moose Pass, Kenai Peninsula, Alaska. The project affects federal lands administered by the U.S. Forest Service within the Chugach National Forest. The sole purpose of a preliminary permit, if issued, is to grant the permit holder priority to file a license application during the permit term. A preliminary permit does not authorize the permit holder to perform any land-disturbing activities or otherwise enter upon lands or waters owned by others without the owners' express permission.

The proposed project would consist of: (1) Either (a) a 2-foot-high by 120-foot-long, concrete gravity dam at Grant Lake, or (b) a natural lake outlet, with a 48-inch-diameter pipe extending back into Grant lake, a gate house, regulating gate, controls, and monitoring equipment; (2) Grant Lake, the project reservoir, with a total storage capacity of 15,900 acre-feet and a water surface area of 1,790 acres at full pool elevation of 700 feet above mean seal level; (3) a 3,200-foot-long, 10-foot-diameter horseshoe tunnel; (4) a 72-inch-diameter, 360-foot-long, welded steel penstock; (5) a 200-foot-long open channel tailrace; (6) a 45-foot by 60-foot by 30-foot-high powerhouse containing two horizontal Francis type turbine units totaling 5 megawatts (MW) (1 x 4 MW unit and 1 x 1 MW unit) of generating capacity; and (7) a transmission line consisting of either a 3.5-mile-long, 24.9 kilovolt (kV) transmission line, or a 1-mile-long, 115 kV transmission line, connecting the powerhouse to the City of Seward's or to Chugach Electric's transmission line. The total energy output would be 19,700 megawatthours.

Applicant Contact: Mr. Mike Salzetti, Kenai Hydro, LLC, 3977 Lake Street, Homer, AK 99603; phone (907) 283-2375.

FERC Contact: Kenneth Hogan; phone: (202) 502-8434.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13212) in the docket number field to access the document. For assistance, contact FERC Online Support.

Dated: December 29, 2011.
Kimberly D. Bose,
Secretary.

[FR Doc. 2012-4 Filed 1-5-12; 8:45 am]

BILLING CODE 6717-01-P